DEPARTMENT OF ENERGY

Federal Energy Regulatory Commission

[Project No. 10721-032]

Idaho Aviation Foundation; Notice of Application Accepted for Filing, Intent To Waive Scoping, Soliciting Motions To Intervene and Protests, Ready for Environmental Analysis, and Soliciting Comments, Terms and Conditions, Recommendations, and Prescriptions

Take notice that the following hydroelectric application has been filed with the Commission and is available for public inspection.

a. Type of Application: Subsequent License.

b. Project No.: 10721-032.

c. Date Filed: February 28, 2020.

d. Applicant: Idaho Aviation Foundation.

e. Name of Project: Big Creek Hydroelectric Project.

f. Location: On McCorkle Creek, near the town of Yellow Pine in Valley County, Idaho. The project would occupy 0.43 acre of federal land managed by the U.S. Forest Service.

g. Applicant Contact: Vic Jaro, Idaho Aviation Foundation, P.O. Box 2016, Eagle, ID 83616, (208) 404-9627; info@idahoaviationfoundation.org.

h. FERC Contact: Suzanne Novak, (202) 502-6665, or suzanne.novak@ferc.gov.

i. Deadline for filing requests for cooperating agency status, motions to intervene and protests, comments, terms and conditions, recommendations, and prescriptions: 60 days from the issuance date of this notice; reply comments are due 105 days from the issuance date of this notice.

The Commission strongly encourages electronic filing. Please file motions to intervene, protests, comments, terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10721-032.

The Commission's Rules of Practice require all intervenors filing documents with the Commission to serve a copy of that document on each person on the official service list for the project. Further, if an intervenor files comments or documents with the Commission relating to the merits of an issue that may affect the responsibilities of a particular resource agency, they must also serve a copy of the document on that resource agency.

j. This application has been accepted for filing and is now ready for environmental analysis.

k. The Big Creek Project consists of the following facilities: (1) A 2-foot-wide, 7-foot-long diversion structure with a check gate; (2) a 1,321-foot-long, 4-inch-diameter, buried PVC penstock with a screened inlet; (3) a 12-foot-wide, 14-foot-long generator house containing a Pelton turbine with an installed capacity of 5 kilowatts; (4) an 18-inch-diameter tailrace that discharges to McCorkle Creek; (5) a 257-foot-long transmission line buried in 2-inch-diameter PVC conduit; and (6) appurtenant facilities. The project operates in a run-of-river mode between mid-May and late October; it does not operate the remainder of the year. The project generates an average of 1.2 to 1.6 megawatt-hours annually. No changes to project operation or facilities are proposed.

l. Due to the small size and location of this project, the applicant's close coordination with federal and state agencies during preparation of the application and the studies completed during pre-filing consultation, and the lack of any study requests submitted in response to the Commission's tendering notice, we intend to waive scoping. Due to the small size and location of this project, the applicant's close coordination with federal and state agencies during preparation of the application, the studies completed during pre-filing consultation, and the lack of any study requests in response to the Commission's tendering notice, we intend to waive scoping. Based on a review of the application and resource agency consultation letters including comments filed to date, Commission staff intends to prepare a single environmental assessment (EA). Commission staff determined that the issues that need to be addressed in its EA have been adequately identified during the pre-filing period, and no new issues are likely to be identified through additional scoping. The EA will consider assessing the potential effects of project operation on geology and soils, aquatic, terrestrial, threatened and endangered species, recreation, and cultural and historic resources.

m. A copy of the application may be viewed on the Commission's website at http://www.ferc.gov using the “eLibrary” link. Enter the docket number excluding the last three digits in the docket number field to access the document. For assistance, contact FERC Online Support.

You may register online at http://www.ferc.gov/docs-filing/esubscription.asp to be notified via email of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

o. A license applicant must file no later than 60 days following the date of issuance of this notice: (1) A copy of the water quality certification; (2) a copy of the request for certification, including proof of the date in which the certifying agency received the request; or (3) evidence of waiver of water quality certification.

p. Procedural schedule: The application will be processed according to the following schedule. Revisions to the schedule will be made as appropriate.

Commission issues EA: November 2020

Comments on EA due: December 2020

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

Dated: April 14, 2020.
Kimberly D. Bose,
Secretary.

[FR Doc. 2020-08260 Filed 4-17-20; 8:45 am]

BILLING CODE 6717-01-P